DEPARTMENT OF THE TREASURY

Internal Revenue Service

Opening Meeting of the Area 4 Taxpayer Advocacy Panel (Including the states of Ohio, Illinois, Indiana, Kentucky, Michigan, West Virginia and Wisconsin)

ACTION: Notice.

SUMMARY: An open meeting of the Area 4 Taxpayer Advocacy Panel will be conducted (via teleconference).

DATES: The meeting will be held Wednesday, December 4, 2002.

FOR FURTHER INFORMATION CONTACT: Mary Ann Delzer at 1-888-912-1227, or 414-297-1604.

SUPPLEMENTARY INFORMATION: Notice is hereby given pursuant to section 10(a)(2) of the Federal Advisory Committee Act, 5 U.S.C. App. (1988) that an open meeting of the Area Four Taxpayer Advocacy Panel (TAP) will be held by telephone on Wednesday, December 4, 2002, from 11 a.m. to 12 p.m. Central Time. The Taxpayer Advocacy Panel is soliciting public comment, ideas, and suggestions on improving customer service at the Internal Revenue Service. You can submit written comments to the panel by faxing to (414) 297-1623, or by mail to Taxpayer Advocacy Panel, Mail Stop 1006 MIL, 310 West Wisconsin Avenue, Milwaukee, WI 53203-2221. Public comments will also be welcome during the meeting. Please contact Mary Ann Delzer at 1-888-912-1227, or 414-297-1604 for dial-in information. The Agenda will include the following: reports by TAP members and discussion of taxpayer service issues.

Note: Last minute changes to the agenda are possible and could prevent effective advance notice.

Dated: November 4, 2002.
John Mannion,
Director, Program Planning & Quality.

[FR Doc. 02-29392 Filed 11-19-02; 8:45 am]

BILLING CODE 4830-01-P